DEPARTMENT OF TRANSPORTATION

Coast Guard

[USCG-2002-11688]

National Offshore Safety Advisory Committee

AGENCY: Coast Guard, DOT.

ACTION: Notice of meetings.

SUMMARY: The National Offshore Safety Advisory Committee (NOSAC) and its Subcommittee on Prevention Through People will meet to discuss various issues relating to offshore safety. Both meetings will be open to the public.

DATES: NOSAC will meet on Thursday, April 25, 2002, from 9:30 a.m. to 3 p.m. The Subcommittee on Prevention Through People will meet on Wednesday, April 24, 2002, from 1:30 p.m. to 3:30 p.m. These meetings may close early if all business is finished. Written material and requests to make oral presentations should reach the Coast Guard on or before April 11, 2002. Requests to have a copy of your material distributed to each member of the committee should reach the Coast Guard on or before April 11, 2002.

ADDRESSES: NOSAC will meet in room 4618, of the Coast Guard Headquarters Bldg, 2100 Second Street, SW, Washington, DC. The Subcommittee on Prevention Through People will meet in room 6103 of the Coast Guard Headquarters Bldg, 2100 Second Street, SW, Washington, DC. Send written material and requests to make oral presentations to Captain M. W. Brown, Executive Director of NOSAC, Commandant (G-MSO), U.S. Coast Guard Headquarters, 2100 Second Street SW, Washington, DC 20593-0001. This notice is available on the Internet at http://dms.dot.gov.

FOR FURTHER INFORMATION CONTACT: Captain M. W. Brown, Executive Director of NOSAC, or Mr. Jim Magill, Assistant to the Executive Director, telephone 202-267-0214, fax 202-267-4570.

SUPPLEMENTARY INFORMATION: Notice of these meetings is given under the Federal Advisory Committee Act, 5 U.S.C. App. 2.

Agenda of Meetings

National Offshore Safety Advisory Committee. The agenda includes the following:

(1) Report on issues concerning the International Maritime Organization and the International Organization for Standardization.

(2) Progress report from the Prevention Through People Subcommittee on “Crew Alertness in the Offshore Industry.”

(3) Report from Subcommittee on Deepwater Activities.

(4) Report from Task Force on development and implementation of the Standards of Training, Certification and Watchkeeping for Seafarers (STCW) Convention for offshore supply vessels (OSVs).

(5) Progress report from the Subcommittee on Pipeline-Free Anchorages.

(6) Revision of 33 CFR subchapter N.

(7) Status report on Coast Guard/Minerals Management Service rulemaking on Inspection of Fixed Facilities (final rule published February 7, 2002, 67 FR 5912).

(8) Update on Coast Guard Initiatives on Crew Fatigue. Subcommittee on Prevention Through People. The agenda includes the following:

(1) Review and discuss previous work.

(2) Work on outline of Draft Report.

Procedural

Both meetings are open to the public. Please note that the meetings may close early if all business is finished. At the Chair's discretion, members of the public may make oral presentations during the meetings. If you would like to make an oral presentation at a meeting, please notify the Executive Director no later than April 11, 2002. Written material for distribution at a meeting should reach the Coast Guard no later than April 11, 2002. If you would like a copy of your material distributed to each member of the committee or subcommittee in advance of the meeting, please submit 25 copies to the Executive Director (see ADDRESSES) no later than April 11, 2002.

Information on Services for Individuals With Disabilities

For information on facilities or services for individuals with disabilities or to request special assistance at the meetings, telephone the Executive Director at 202 267-0214 as soon as possible.

Dated: February 26, 2002.
Joseph J. Angelo,
Director of Standards, Marine Safety and Environmental Protection.

[FR Doc. 02-6049 Filed 3-12-02; 8:45 am]

BILLING CODE 4910-15-P